DEPARTMENT OF TRANSPORTATION

Federal Highway Administration

Supplemental Final Environmental Impact Statement; Washington, DC

AGENCY: Federal Highway Administration (FHWA), DOT.

ACTION: Notice of Intent to Prepare a Supplemental Final Environmental Impact Statement (SFEIS).

SUMMARY: The U.S. Federal Highway Administration (FHWA) in coordination with the District of Columbia Department of Transportation (DDOT) in Washington, DC is issuing this notice to advise agencies and the public that a Supplemental Final Environmental Impact Statement (SFEIS) will be prepared for the South Capitol Street Project (the Project). The Project proposes to make major changes to the South Capitol Street Corridor from Firth Sterling Avenue SE to Independence Avenue and the Suitland Parkway from Martin Luther King, Jr. Avenue SE., to South Capitol Street, including replacing the existing Frederick Douglass Memorial Bridge over the Anacostia River.

FOR FURTHER INFORMATION CONTACT: Federal Highway Administration, District of Columbia Division: Mr. Michael Hicks, Environmental/Urban Engineer, 1990 K Street NW., Suite 510, Washington, DC 20006-1103, (202) 219-3513, email: michael.hicks@dot.gov; or the District of Columbia Department of Transportation: Mr. E.J. Simie, PE, Project Manager, 55 M Street SE., Suite 400, Washington, DC 20003, (202) 671-2800, email: ej.simie@dc.gov.

SUPPLEMENTARY INFORMATION: In March 2011, the FHWA in conjunction with DDOT approved release of the Final Environmental Impact Statement (FEIS) for the Project. The availability of the FEIS was announced in the April 8, 2011 Federal Register. The alternatives examined in detail in the FEIS included a No Build Alternative and three build alternatives: Build Alternatives 1 and 2 and the Preferred Alternative, which was a modification of Build Alternative 2. A movable arched bascule was selected for the new Frederick Douglass Memorial Bridge. The alignment of the new bridge would be at an angle from the existing bridge to allow the swing span on the existing bridge to remain operational during construction, which meant that right-of-way would be needed from Joint Base Anacostia-Bolling (JBAB). Build Alternatives 1 and 2 were eliminated from consideration in the FEIS and, therefore, will not be considered in the SFEIS.

Since publication of the FEIS, FHWA and DDOT have considered major changes regarding the design of the FEIS Preferred Alternative. Most notably, DDOT reconsidered the need to obtain right-of-way from JBAB, which resulted in changing the alignment of the proposed new Frederick Douglass Memorial Bridge to a location immediately south of and parallel to the existing bridge. In addition, new information about current and planned navigation along the Anacostia River, including the navigation requirements of the U.S. Navy (USN), led to the decision to make the new bridge a fixed span structure instead of a movable span structure. Other notable design revisions made to the FEIS Preferred Alternative include the conversion of the east side traffic circle to a traffic oval similar in size to the proposed west traffic oval, and changes to the proposed ramps or ramp modifications between South Capitol Street and I-695, Suitland Parkway and I-295, and Martin Luther King, Jr. Avenue SE. and Suitland Parkway. Due to these and other design changes, a Revised Preferred Alternative was developed.

The SFEIS will be prepared in accordance with the requirements of the National Environmental Policy Act (NEPA) of 1969, as amended (42 U.S.C. 4371, et seq.), Council on Environmental Quality (CEQ) regulations (40 CFR parts 1500-1508), FHWA Code of Federal Regulations (23 CFR 771.101-771.137, et seq.), and all applicable Federal, State, and local government laws, regulations, and policies. The SFEIS will describe the proposed changes to the FEIS Preferred Alternative, update the affected environment, and describe the anticipated environmental impacts of the Revised Preferred Alternative in comparison to the anticipated environmental impacts disclosed in the FEIS for the FEIS Preferred Alternative. The Purpose and Need of the Project did not change from the FEIS. The U.S. Navy; U.S. Army Corps of Engineers; U.S. Coast Guard; the National Park Service; and the District of Columbia Department of the Environment will continue to serve as Cooperating Agencies for the Project.

A 30-day review period will be provided following the Notice of Availability of the SFEIS in the Federal Register, and a public meeting will be held within this review period. The public meeting will be conducted by DDOT and announced a minimum of 15 days in advance of the meeting. DDOT will provide information for the public meeting, including date, time and location through a variety of means including the Project Web site (http://www.southcapitoleis.com) and by newspaper advertisement.

To ensure that the full range of issues is identified early in the process, comments are invited from all interested and/or potentially affected parties. Comments or questions concerning this Notice should be directed to the FHWA and DDOT at the addresses provided above.

(Catalog of Federal Domestic Assistance Program Number 20.205 Highway Planning and Construction. The regulations and implementing Executive Order 12372 regarding intergovernmental consultation on Federal programs and activities apply to this program.)

Authority: 23 U.S.C. 315; 49 CFR 1.48.

Issued on: July 23, 2014.
Joseph C. Lawson,
Division Administrator, District of Columbia Division, Federal Highway Administration.

[FR Doc. 2014-17679 Filed 7-25-14; 8:45 am]

BILLING CODE 4910-22-P